DEPARTMENT OF ENERGY

Federal Energy Regulatory Commission

Combined Notice of Filings #1

Take notice that the Commission received the following electric corporate filings:

Docket Numbers: EC17-80-000.

Applicants: Ebensburg Power Company, Babcock & Wilcox Ebensburg Power, LLC, Ebensburg Investors Limited Partnership.

Description: Supplement to February 16, 2017 Application for Authorization of Disposition of Jurisdictional Facilities under Section 203 of the Federal Power Act of Ebensburg Power Company, et al.

Filed Date: 5/3/17.

Accession Number: 20170503-5163.

Comments Due: 5 p.m. ET 5/15/17.

Docket Numbers: EC17-110-000.

Applicants: U.S. Gas & Electric, Inc., Energy Services Providers, Inc., Massachusetts Gas & Electric, Inc., Connecticut Gas & Electric, Inc., Equus Total Return, Inc.

Description: Application for Authorization for Disposition of Jurisdictional Facilities and Request for Waivers, Confidential Treatment and Expedited Action of U.S. Gas & Electric, Inc., et al.

Filed Date: 4/28/17.

Accession Number: 20170428-5620.

Comments Due: 5 p.m. ET 5/19/17.

Docket Numbers: EC17-111-000.

Applicants: CSOLAR IV West, LLC.

Description: Application of CSOLAR IV West, LLC for Approval Under Section 203 of the Federal Power Act and Request for Expedited Action.

Filed Date: 5/1/17.

Accession Number: 20170501-5436.

Comments Due: 5 p.m. ET 5/22/17.

Take notice that the Commission received the following electric rate filings:

Docket Numbers: ER16-453-007.

Applicants: Northeast Transmission Development, LLC, PJM Interconnection, L.L.C.

Description: Compliance filing: NTD submits compliance filing to Order issued April 6, 2017 re: NTD Formula Rate to be effective 2/1/2016.

Filed Date: 5/3/17.

Accession Number: 20170503-5128.

Comments Due: 5 p.m. ET 5/24/17.

Docket Numbers: ER17-1160-001.

Applicants: Entergy Arkansas, Inc.

Description: Tariff Amendment: EAI MSS-4 Amended PPAs to be effective 5/9/2017.

Filed Date: 5/4/17.

Accession Number: 20170504-5096.

Comments Due: 5 p.m. ET 5/25/17.

Docket Numbers: ER17-1324-001.

Applicants: Playa Solar 2, LLC.

Description: Tariff Amendment: Amendment to MBR Tariff Application to be effective 3/29/2017.

Filed Date: 5/4/17.

Accession Number: 20170504-5068.

Comments Due: 5 p.m. ET 5/15/17.

Docket Numbers: ER17-1536-000.

Applicants: Southern Power Company.

Description: Petition for Limited Waiver of Southern Power Company and Request for Shortened Comment Period and Expedited Action.

Filed Date: 5/3/17.

Accession Number: 20170503-5170.

Comments Due: 5 p.m. ET 5/10/17.

Docket Numbers: ER17-1537-000.

Applicants: Southwestern Electric Power Company.

Description: § 205(d) Rate Filing: SWEPCO-Tex-La SPP PSA 456 Change to be effective 5/15/2017.

Filed Date: 5/4/17.

Accession Number: 20170504-5062.

Comments Due: 5 p.m. ET 5/25/17.

Docket Numbers: ER17-1538-000.

Applicants: Southwestern Electric Power Company.

Description: § 205(d) Rate Filing: SWEPCO-Tex-La ERCOT PSA 456 Change to be effective 5/15/2017.

Filed Date: 5/4/17.

Accession Number: 20170504-5064.

Comments Due: 5 p.m. ET 5/25/17.

Docket Numbers: ER17-1539-000.

Applicants: Southwestern Electric Power Company.

Description: § 205(d) Rate Filing: SWEPCO-ETEC PSA 456 Change to be effective 5/15/2017.

Filed Date: 5/4/17.

Accession Number: 20170504-5065.

Comments Due: 5 p.m. ET 5/25/17.

Docket Numbers: ER17-1540-000.

Applicants: Southwestern Electric Power Company.

Description: § 205(d) Rate Filing: SWEPCO-NTEC PSA 456 Change to be effective 5/15/2017.

Filed Date: 5/4/17.

Accession Number: 20170504-5066.

Comments Due: 5 p.m. ET 5/25/17.

Docket Numbers: ER17-1541-000.

Applicants: Southwestern Electric Power Company.

Description: § 205(d) Rate Filing: SWEPCO-ETEC-NTEC PSA 456 Change to be effective 5/15/2017.

Filed Date: 5/4/17.

Accession Number: 20170504-5067.

Comments Due: 5 p.m. ET 5/25/17.

Docket Numbers: ER17-1542-000.

Applicants: ISO New England Inc., New England Power Pool Participants Committee.

Description: § 205(d) Rate Filing: Market Rule 1 Revisions to Cap Offers from Fast-Start Resources to be effective 7/3/2017.

Filed Date: 5/4/17.

Accession Number: 20170504-5094.

Comments Due: 5 p.m. ET 5/25/17.

Take notice that the Commission received the following electric securities filings:

Docket Numbers: ES17-32-000.

Applicants: Golden Spread Electric Cooperative, Inc.

Description: Application under Section 204 of the Federal Power Act for Authorization to Issue Securities of Golden Spread Electric Cooperative, Inc.

Filed Date: 5/1/17.

Accession Number: 20170501-5435.

Comments Due: 5 p.m. ET 5/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2017.
Kimberly D. Bose,
Secretary.

[FR Doc. 2017-09681 Filed 5-11-17; 8:45 am]

BILLING CODE 6717-01-P